DEPARTMENT OF TRANSPORTATION

14 CFR Chapters I, II, and III

23 CFR Chapters I, II, and III

46 CFR Chapter II

48 CFR Chapter 12

49 CFR Chapters I, II, III, V, and VI

Availability of Final Report on Regulatory Review Under Executive Order 13783

AGENCY: Office of the Secretary, Department of Transportation.

ACTION: Notification of availability of final report on regulatory review.

SUMMARY: The Department of Transportation (DOT) announces the availability of its report issued under Section 2 of Executive Order 13783, “Promoting Energy Independence and Economic Growth.”

DATES: December 22, 2017.

ADDRESSES: The report is available on DOT's website at https://www.transportation.gov/regulations/dot-report-presidential-energy-initiative.

FOR FURTHER INFORMATION CONTACT: Finch Fulton, Deputy Assistant Secretary for Transportation Policy, 1200 New Jersey Avenue SE, Washington, DC 20590. Telephone: (202) 366-8186. Email: finch.fulton@dot.gov.

SUPPLEMENTARY INFORMATION: DOT announces the availability of its report issued under Section 2 of Executive Order 13783, “Promoting Energy Independence and Economic Growth.” The report contains recommendations to reduce regulatory burdens on the use or development of domestic energy resources. The report is available on DOT's website at https://www.transportation.gov/regulations/dot-report-presidential-energy-initiative.

Issued in Washington, DC, on December 18, 2017.
Finch Fulton,
Deputy Assistant Secretary for Transportation Policy.

[FR Doc. 2017-27654 Filed 12-21-17; 8:45 am]

BILLING CODE 4910-9X-P